UNITED STATES INSTITUTE OF PEACE

Notice of Meeting

AGENCY: United States Institute of Peace.

DATES: Friday, July 24, 2015 (10 a.m.-1:45 p.m.).

ADDRESSES: 2301 Constitution Avenue NW., Washington, DC 20037.

SUPPLEMENTARY INFORMATION:

Status: Open Session—Portions may be closed pursuant to Subsection (c) of Section 552(b) of Title 5, United States Code, as provided in subsection I706(h)(3) of the United States Institute of Peace Act, Public Law 98-525.

Agenda: July 24, 2015 Board Meeting; Approval of Minutes of the One Hundred Fifty-fourth Meeting (April 24, 2015) of the Board of Directors; Chairman's Report; Vice Chairman's Report; President's Report; Reports from USIP Board Committees; Update on West Bank Security Sector Project, US1P Iraq Programming, and Preventing Electoral Violence (PEV) review.

Contact: Nick Rogacki, Special Assistant to the President, Email: nrogacki@usip.org.

Dated: July 9, 2015.
Nicholas Rogacki,
Special Assistant to the President, United States Institute of Peace.

[FR Doc. 2015-17336 Filed 7-15-15; 8:45 am]

BILLING CODE 6820-AR-M